FEDERAL RETIREMENT THRIFT INVESTMENT BOARD

Sunshine Act; Notice of ETAC Meeting

TIME AND DATE: 1:00 p.m., August 6, 2015.

PLACE: 10th Floor Board Meeting Room, 77 K Street NE., Washington, DC 20002.

STATUS: Open to the public.

MATTERS TO BE CONSIDERED:

Open to the Public

1. Approval of the minutes of the May 18, 2015 Joint Board/ETAC meeting

2. Thrift Savings Fund Statistics

3. Withdrawal Options

4. Mutual Fund Window Project and Policy

5. Investment Advice Discussion

6. Impact of Proposed Changes to G Fund

7. New Business

Contact Person For More Information: Kimberly Weaver, Director, Office of External Affairs, (202) 942-1640.

Dated: July 28, 2015.
James B. Petrick,
Secretary, Federal Retirement Thrift Investment Board.

[FR Doc. 2015-18867 Filed 7-29-15; 4:15 pm]

BILLING CODE 6760-01-P